SECURITIES AND EXCHANGE COMMISSION

Submission for OMB Review; Comment Request

Upon Written request, Copies Available From: Securities and Exchange Commission, Office of Filings and Information Services, Washington, DC 20549.

Extension:

Form N-PX; SEC File No. 270-524; OMB Control No. 3235-0582.

Notice is hereby given that pursuant to the Paperwork Reduction Act of 1995 (44 U.S.C. 3501 et seq.) the Securities and Exchange Commission (“Commission”) has submitted to the Office of Management and Budget (“OMB”) a request for extension of the previously approved collection of information discussed below.

The title of the collection of information is “Form N-PX under the Investment Company Act of 1940, Annual Report of Proxy Voting Record.” Rule 30b1-4 under the Investment Company Act of 1940 (“Investment Company Act”) requires every registered management investment company, other than a small business investment company (“Fund”), to file Form N-PX not later than August 31 of each year. Funds use Form N-PX to file annual reports with the Commission containing their complete proxy voting record for the most recent twelve-month period ended June 30. Funds also use Form N-PX to inform the Commission that certain of their portfolios do not hold any equity securities and have no proxy record to file.

The Commission requires the dissemination of this information in order to meet the filing and disclosure requirements of the Investment Company Act and to enable Funds to provide investors with the information necessary to evaluate an investment in the Fund. The information filed with the Commission also permits the verification of compliance with securities law requirements and assures the public availability and dissemination of the information. Requiring a Fund to file its annual reports on Form N-PX has the advantages of making each Fund's proxy voting record available within a relatively short period of time after the proxy voting season, and of providing disclosure of all Funds' proxy voting records over a uniform period of time.

There are approximately 3,700 Funds registered with the Commission, representing 7,900 Fund portfolios, which are required to file one Form N-PX each year. Those 7,900 portfolios are comprised of 5,000 portfolios holding equity securities and 2,900 portfolios holding no equity securities. The staff estimates that filing a response that states that the portfolio does not hold equity securities will require a 10 minute burden per response. The burden for portfolios holding equity securities is estimated to be 14.4 hours per response. The total annual reporting and recordkeeping burden is estimated to be approximately 72,483 hours ((5,000 responses × 14.4 hours per response for equity-holding portfolios) + (2,900 × 10 minutes per response for portfolio holding no equity securities)).

Form N-PX does not involve any recordkeeping requirements. Providing the information required by the rule is mandatory and information provided under the rule will not be kept confidential.

An agency may not conduct or sponsor, and a person is not required to respond to a collection of information unless it displays a currently valid control number.

General comments regarding the above information should be directed to the following persons: (i) Desk Officer for the Securities and Exchange Commission, Office of Information and Regulatory Affairs, Office of Management and Budget, Room 10102, New Executive Office Building, Washington, DC 20503 or e-mail to: David_Rostker@omb.eop.gov; and (ii) R. Corey Booth, Director/Chief Information Officer, Office of Information Technology, Securities and Exchange Commission, 100 F Street, NE., Washington, DC 20549. Comments must be submitted to OMB within 30 days of this notice.

January 31, 2006.
Nancy M. Morris,
Secretary.

[FR Doc. E6-1782 Filed 2-8-06; 8:45 am]

BILLING CODE 8010-01-P